BUREAU OF CONSUMER FINANCIAL PROTECTION

Supervisory Highlights, Issue 21 (Winter 2020)

AGENCY: Bureau of Consumer Financial Protection.

ACTION: Supervisory highlights.

SUMMARY: The Bureau of Consumer Financial Protection (Bureau) is issuing its twenty first edition of Supervisory Highlights. In this issue of Supervisory Highlights, we report examination findings in the areas of debt collection, mortgage servicing, payday lending and student loan servicing that were completed between April 2019 and August 2019. The report does not impose any new or different legal requirements, and all violations described in the report are based only on those specific facts and circumstances noted during those examinations.

DATES: The Bureau released this edition of the Supervisory Highlights on its website on February 14, 2020.

FOR FURTHER INFORMATION CONTACT: Jaclyn Sellers, Counsel, at (202) 435-7449. If you require this document in an alternative electronic format, please contact CFPB_Accessibility@cfpb.gov.

SUPPLEMENTARY INFORMATION:

1. Introduction

The Bureau of Consumer Financial Protection (Bureau) is committed to a consumer financial marketplace that is free, innovative, competitive, and transparent, where the rights of all parties are protected by the rule of law, and where consumers are free to choose the products and services that best fit their individual needs. To effectively accomplish this, the Bureau remains committed to sharing with the public key findings from its supervisory work to help industry limit risks to consumers and comply with Federal consumer financial law.

The findings included in this report cover examinations in the areas of debt collection, mortgage servicing, payday lending, and student loan servicing that were completed between April 2019 and August 2019.

It is important to keep in mind that institutions are subject only to the requirements of relevant laws and regulations. The information contained in Supervisory Highlights is disseminated to help institutions better understand how the Bureau examines institutions for compliance with those requirements. This document does not impose any new or different legal requirements. In addition, the legal violations described in this and previous issues of Supervisory Highlights are based on the particular facts and circumstances reviewed by the Bureau as part of its examinations. A conclusion that a legal violation exists on the facts and circumstances described here may not lead to such a finding under different facts and circumstances.

We invite readers with questions or comments about the findings and legal analysis reported in Supervisory Highlights to contact us at CFPB_Supervision@cfpb.gov.

2. Supervisory Observations

Recent supervisory observations are reported in the area of debt collection, mortgage servicing, payday lending, and student loan servicing.

2.1 Debt Collection

The Bureau's Supervision program has the authority to examine certain entities that engage in consumer debt collection activities, including nonbanks that are larger participants in the consumer debt collection market. Recent examinations of larger participant debt collectors identified one or more violations of the Fair Debt Collection Practices Act (FDCPA).

2.1.1 Failure To Disclose in Subsequent Communications That Communication is From a Debt Collector

Section 807 of the FDCPA prohibits the use of any false, deceptive, or misleading representation or means in the collection of any debt.¹ Specifically, section 807(11) of the FDCPA prohibits a collector from failing to disclose in communications subsequent to the initial written communication that the communication is from a debt collector.² Examiners found that one or more debt collectors failed to disclose in their subsequent communications that those communications were from a debt collector. In response to these findings, the collectors revised their section 807(11) policies and procedures, monitoring and/or audit programs, and training.

¹ 15 U.S.C. 1692(e).

² 15 U.S.C. 1692(e)(11).

2.1.2 Failure To Send Notice of Debt

Section 809(a) of the FDCPA requires that within five days after the initial communication with the consumer in connection with the collection of any debt, a debt collector must send a written validation notice unless the information is contained in the initial communication or the consumer has paid the debt.³ Examiners found that one or more debt collectors failed to send the prescribed validation notice within five days of the initial communication with the consumer regarding collection of the debt, where required. In response to these findings, the collectors revised their section 807(11) policies and procedures, monitoring and/or audit programs, and training.

³ 15 U.S.C. 1692(g)(a).

2.2 Mortgage Servicing

Bureau examinations continue to focus on the loss mitigation process. Examiners determined that one or more servicers violated Regulation X, by failing to provide certain required loss mitigation notices, providing incomplete notices, or not providing notices within the time required by the regulation.⁴ These violations were caused, in part, by servicers' efforts to handle an unexpected surge in applications due to natural disasters and impacted both borrowers in disaster areas and those outside of disaster areas. The Bureau had issued a statement regarding supervisory practices during natural disasters.⁵ The statement described flexibility in Regulation X that may make it easier for servicers to assist borrowers affected by natural disasters or emergencies but does not lift any requirements. However, since the violations set forth below occurred during a time period where the servicers were making specific efforts to address borrower needs arising from natural disasters, Supervision did not issue any matters requiring attention setting forth needed corrective actions by servicers. Instead, servicers developed plans to enhance staffing capacity in response to any future disaster-related increases in loss mitigation applications.

⁴ 12 CFR 1024.41.

⁵ Statement on Supervisory Practices Regarding Financial Institutions and Consumers Affected by a Major Disaster or Emergency—September 2018, available at https://www.consumerfinance.gov/policy-compliance/guidance/supervisory-guidance/statement-supervisory-practices-regarding-financial-institutions-and-consumers-affected-major-disaster-or-emergency/.

2.2.1 Loss Mitigation Notice Violations

Regulation X generally requires servicers to send borrowers a written notice acknowledging receipt of a loss mitigation application and notifying borrowers of the servicers' determination that the loss mitigation application is either complete or incomplete within 5 days (excluding legal public holidays, Saturdays, and Sundays) after receiving a loss mitigation application. The notice includes a statement that the borrower should consider contacting servicers of any other mortgage loans secured by the same property to discuss available loss mitigation options.⁶

⁶ 12 CFR 1024.41(b)(2)(i)(B). This notice is only required if the servicer receives a loss mitigation application 45 days or more before a foreclosure sale.

In one or more examinations, examiners found that the servicers violated Regulation X by failing to notify borrowers in writing that an application was either complete or incomplete within 5 days of receiving the application.

Regulation X also generally requires servicers to provide consumers with a written notice stating the servicers' determination of which loss mitigation options, if any, it will offer the consumer within 30 days of receiving the complete loss mitigation application.⁷

⁷ 12 CFR 1024.41(c)(1). This notice is only required if the servicer receives a loss mitigation application more than 37 days before a foreclosure sale.

In one or more examinations, examiners found that the servicers violated Regulation X because the servicers did not provide a written notice stating the servicers' determination of available loss mitigation options within 30 days of receiving the complete loss mitigation application.

Regulation X requires servicers to exercise reasonable diligence in obtaining documents and information to complete a loss mitigation application that servicers receive.⁸ In addition, Regulation X generally requires servicers to evaluate the borrower for all loss mitigation options available to the borrower and prohibits servicers from evading those requirements by offering a loss mitigation option based upon evaluation of an incomplete loss mitigation application, unless an exception exists.⁹ As an exception to that requirement, Regulation X permits servicers to offer a short-term loss mitigation option (short-term payment forbearance program or short-term repayment plan) to a borrower based upon an evaluation of an incomplete loss mitigation application. Regulation X requires servicers that do so to promptly provide a written notice stating that the offered program or plan is based on an evaluation of an incomplete application, that other loss mitigation options may be available, and that the borrower has the option to submit a complete loss mitigation application to receive an evaluation for all available loss mitigation options regardless of whether the borrower accepts the plan.¹⁰

⁸ 12 CFR 1024.41(b)(1).

⁹ 12 CFR 1024.41(c).

¹⁰ 12 CFR 1024.41(c)(2)(iii).

In one or more examinations, servicers automatically granted short-term payment forbearances if a borrower in a disaster area experienced home damage or incurred a loss of income from the disaster. Borrowers did not submit any form of written application to receive the forbearance. Rather, borrowers spoke with the servicers over the phone about their financial concerns due to the disaster and received the forbearances based on these conversations. The borrowers' conversations with the servicers constituted loss mitigation applications under Regulation X.¹¹ Examiners found that the servicers violated Regulation X by not providing a written notice with the required consumer information when it offered borrowers the short-term payment forbearance program based upon evaluation of an incomplete loss mitigation application. This consumer information is an important element of the rule because some borrowers may be experiencing a hardship where a longer-term loss mitigation option is more appropriate.¹²

¹¹ Under Regulation X, a loss mitigation application “means an oral or written request for a loss mitigation option that is accompanied by any information required by a servicer for evaluation for a loss mitigation option.” 12 CFR 1024.31.

¹² Amendments to the 2013 Mortgage Rules Under the RESPA (Regulation X) and the TILA (Regulation Z), 81 FR 72247 (October 19, 2016).

As noted above, because the violations were caused, in part, by servicers' efforts to handle an unexpected surge in applications due to natural disasters and occurred during a time period where the servicers were making specific efforts to address borrower needs arising from the natural disasters, examiners did not issue any matters requiring attention for these violations. Instead, servicers developed plans to enhance staffing capacity in response to any future disaster-related increases in loss mitigation applications.

2.3 Payday Lending

The Bureau's Supervision program covers entities that offer or provide payday loans. Examinations of these lenders identified violations of Regulation Z, Regulation B, and unfair acts or practices.

2.3.1 Failing To Apply Borrowers' Payments to Their Loans

Under the prohibition against unfair acts or practices in sections 1031 and 1036 of the CFPA,¹³ an act or practice is unfair when: (1) It causes or is likely to cause substantial injury to consumers; (2) which is not reasonably avoidable by consumers; and (3) such substantial injury is not outweighed by countervailing benefits to consumers or to competition.¹⁴

¹³ 12 U.S.C. 5531, 5536.

¹⁴ 12 U.S.C. 5531(c)(1).

One or more lenders engaged in unfair acts or practices in violation of the CFPA when borrowers paid more than they owed because the lenders failed to apply borrower payments to their loans in certain circumstances, lacked systems to detect the unapplied payments, and treated borrowers' accounts as delinquent.

Examiners determined that under certain circumstances, borrowers' payments were being processed by lenders but not applied to the borrowers' loan balances in the lenders' systems. The lenders continued to assess interest as if the consumers had not made a payment and incorrectly treated affected consumers as delinquent. A number of consumers ultimately paid more than they owed. The lenders lacked systems to confirm that borrower payments were applied to their loan balances. Consumers who viewed their accounts online were given incorrect information that did not account for the unapplied payment.

The borrowers' overpayments constituted substantial injury. The injury was not reasonably avoidable by the borrowers because the lenders conveyed incorrect information to them about their accounts and failed to timely follow up on borrowers' complaints. The injury was not outweighed by countervailing benefits to consumers or competition because the cost to lenders to implement appropriate accounting controls to reconcile payments against borrowers' loans would have been reasonable; because any cost-savings associated with not investing in such controls placed the lenders' competitors at a competitive disadvantage; and because the lenders' practices conferred no benefits to consumers. The Bureau is reviewing the lenders' remedial and corrective actions.

2.3.2 Inaccurate Disclosure of Annual Percentage Rate

Regulation Z requires a creditor to disclose the annual percentage rate (APR) for certain transactions.¹⁵ The APR disclosed to a consumer will generally be considered accurate if it is not more than ⅛ of 1 percentage point above or below the APR calculated as Regulation Z requires.¹⁶

¹⁵ 12 CFR 1026.18(e).

¹⁶ 12 CFR 1026.22(a)(2).

Examiners found that one or more lenders relied on employees to calculate APRs when their loan origination systems were unavailable. Because of errors in calculating the term of the loan, the APRs were sometimes misstated to consumers, thereby violating Regulation Z. Examiners found that the errors resulted from weaknesses in employee training by the lenders. In response to these findings, such training will be improved.

2.3.3 Failure To Include a Fee in Calculation of Finance Charge and Annual Percentage Rate

In addition to requiring disclosure of the APR,¹⁷ Regulation Z requires a creditor to disclose the finance charge associated with certain transactions.¹⁸ A finance charge is “the cost of consumer credit as a dollar amount” and includes any charge imposed “as an incident to or condition of the extension of credit.” ¹⁹

¹⁷ 12 CFR 1026.18(e).

¹⁸ 12 CFR 1026.18(d).

¹⁹ 12 CFR 1026.4(a).

Examiners found that one or more lenders charged a loan renewal fee to consumers who were refinancing delinquent loans. The fee was not stated in the outstanding loan agreement, and therefore constituted a change in terms. Because the lenders conditioned the new loans on payment of the fee, the fee was a finance charge associated with the new loan that required new transaction disclosures under Regulation Z. However, the lenders did not include the renewal fee in their calculation of the finance charge or APR. Because the fee was omitted from the calculations, the finance charge and APR that the lenders disclosed to consumers violated Regulation Z. Examiners found that a lack of detailed policies and procedures for loan origination and a lack of training on the requirements of Federal consumer financial laws contributed to the violations of Regulation Z. As a result of these findings, the lenders strengthened their policies and procedures and training program. Additionally, the lenders refunded the fee to consumers and explained the reason for the refund.

2.3.4 Failure To Retain Evidence of Compliance With Regulation Z

With certain exceptions, a creditor is generally required to retain evidence of compliance with the requirements of Regulation Z for two years.²⁰ One or more lenders were unable to provide examiners with evidence of compliance with Regulation Z. While payment histories and loan data were maintained in the systems of record, other loan origination documentation was not consistently maintained, and evidence of compliance with Truth-in-Lending disclosure requirements could not be provided. Examiners found that this violated the record-retention requirements of Regulation Z. The violation resulted in part from a lack of training and of detailed policies and procedures related to record retention. In response to these findings, the lenders developed and implemented a record-retention program to support compliance with the requirements of Regulation Z.

²⁰ 12 CFR 1026.25(a).

2.3.5 Adverse Action Notices That Failed To Disclose the Principal Reason(s) for the Adverse Action

Regulation B requires a creditor to provide a consumer a notice after taking certain adverse actions.²¹ Among the required content of the notice is a statement of the specific reason or reasons for the action taken,²² which “must be specific and indicate the principal reason(s) for the adverse action.” ²³ Examiners found that one or more lenders provided consumers with adverse action notices that stated one or more incorrect principal reasons for taking an adverse action. For example, lenders sent numerous incorrect notices due to a coding system error. Examiners found that the relevant adverse action notices violated Regulation B. As a result of this finding, the lenders sent corrected adverse action notices to consumers and made changes to the systems used to generate the notices.

²¹ 12 CFR 1002.9(a).

²² 12 CFR 1002.9(a)(2)(i).

²³ 12 CFR 1002.9(b)(2).

2.3.6 Unfair Imposition of Unauthorized and Undisclosed Fee

Under the prohibition against unfair acts or practices in sections 1031 and 1036 of the CFPA,²⁴ an act or practice is unfair when: (1) It causes or is likely to cause substantial injury to consumers; (2) which is not reasonably avoidable by consumers; and (3) such substantial injury is not outweighed by countervailing benefits to consumers or to competition.²⁵

²⁴ 12 U.S.C. 5531, 5536.

²⁵ 12 U.S.C. 5531(c)(1).

Examiners found that one or more lenders assessed consumers a particular fee as a condition of paying or settling a delinquent loan. The fee was not authorized by the lenders' loan contract, which stated that the expense at issue would be paid by the lender. During the payment or settlement process, the fee was either incorrectly described as a court cost (which the contract would have required the consumer to pay) or not disclosed at all.

Examiners found that imposition of the fee was an unfair act or practice. The fee caused or was likely to cause substantial injury to consumers who were required to pay extra in order to pay or settle their debts. The consumers could not reasonably avoid the fee. Often, consumers were not provided with an itemization of the amount due while paying or settling their debts. If they were provided with an itemization, the fee was inaccurately described as a court cost. The substantial injury was not outweighed by countervailing benefits because there were no benefits to consumers or to competition. Examiners found that the practice resulted in part from a lack of monitoring and/or auditing of the lenders' collection practices.

As a result of this finding, the lenders made changes to their compliance management system and refunded the fee to affected consumers.

2.4 Student Loan Servicing

The Bureau continues to examine student loan servicing activities, primarily to assess whether entities have engaged in any unfair, deceptive or abusive acts or practices prohibited by the CFPA. Examiners found one or more student loan servicers engaged in an unfair practice related to monthly payment calculations.

2.4.1 Inaccurate Monthly Payment Amounts After Servicing Transfer

Under the prohibition against unfair acts or practices in sections 1031 and 1036 of the CFPA,²⁶ an act or practice is unfair when: (1) It causes or is likely to cause substantial injury to consumers; (2) which is not reasonably avoidable by consumers; and (3) the substantial injury is not outweighed by countervailing benefits to consumers or to competition.²⁷

²⁶ 12 U.S.C. 5531, 5536.

²⁷ 12 U.S.C. 5531(c)(1).

In one or more examinations, examiners found that servicers engaged in an unfair act or practice by stating monthly amounts due in periodic statements that exceeded those authorized by consumers' loan notes, where either the servicers automatically debited incorrect amounts or, for borrowers not enrolled in auto debit, the borrowers submitted an inflated payment or were assessed a late fee for failing to submit the inflated payment by the due date. More specifically, during the transfer of private loans between servicing systems, data mapping errors led to inaccurate calculations of monthly payment amounts. The servicers sent periodic statements with the inaccurate monthly payment amounts to consumers, and, for some consumers enrolled in automatic debit, debited the inaccurate amounts from their accounts. Consumers not enrolled in auto debit may have submitted an inflated payment or were assessed late fees for failing to do so by the due date.

The conduct caused or was likely to cause substantial injury to consumers for one of three reasons: (1) Because incorrect amounts were automatically debited from their accounts, (2) because they made payments based on the incorrect periodic statement amounts, or (3) because they incurred late fees when they did not pay the incorrect amounts. Consumers could not reasonably have avoided the injury because they reasonably relied on the servicers' calculations and representations in the periodic statements. The injury from this activity is not outweighed by the countervailing benefits to consumers or competition. For example, the benefits to consumers or competition from avoiding the cost of better monitoring of servicing transfers between entities would not outweigh the substantial injury to consumers. In response to the examination findings, the servicers have conducted reviews to identify and remediate affected consumers. Servicers also implemented new processes to mitigate data mapping errors.

3. Supervision Program Developments

3.1 Recent Bureau Rules and Guidance

3.1.1 Federal Regulators Issue Joint Statement on the Use of Alternative Data in Credit Underwriting

On December 3, 2019, five Federal financial regulatory agencies issued a joint statement on the use of alternative data in underwriting by banks, credit unions, and non-bank financial firms.

The statement from the Bureau, the Federal Reserve Board, the Federal Deposit Insurance Corporation, the Office of the Comptroller of the Currency, and the National Credit Union Administration notes the benefits that using alternative data may provide to consumers, such as expanding access to credit and enabling consumers to obtain additional products and more favorable pricing and terms. The statement explains that a well-designed compliance management program provides for a thorough analysis of relevant consumer protection laws and regulations to ensure firms understand the opportunities, risks, and compliance requirements before using alternative data.

Alternative data includes information not typically found in consumers' credit reports or customarily provided by consumers when applying for credit. Alternative data include cash flow data derived from consumers' bank account records. The agencies recognize that use of alternative data in a manner consistent with applicable consumer protection laws may improve the speed and accuracy of credit decisions and may help firms evaluate the creditworthiness of consumers who currently may not obtain credit in the mainstream credit system.

3.1.2 CFPB Issues Interpretive Rule on Screening and Training Requirements for Mortgage Loan Originators

On November 15, 2019, the Bureau issued an interpretive rule clarifying screening and training requirements for financial institutions that employ loan originators with temporary authority. The rule went into effect on November 24, 2019.

The Secure and Fair Enforcement for Mortgage Licensing Act of 2008 (SAFE Act) established a national system for licensing and registration of loan originators. It contemplates two categories of loan originators, those working for state-licensed mortgage companies and those working for Federally-regulated financial institutions. Section 106 of the Economic Growth, Regulatory Relief, and Consumer Protection Act (EGRRCPA) establishes a third category, loan originators with temporary authority to originate loans. Loan originators with temporary authority are loan originators who were previously registered or licensed, are employed by a state-licensed mortgage company, are applying for a new state loan originator license, and meet other criteria specified in the statute. Loan originators with temporary authority may act as a loan originator for a temporary period of time, as specified in the statute, in a state while that state considers their application for a loan originator license.

All loan originators must satisfy certain criminal history screening and training requirements. Under the SAFE Act, before issuing a state loan originator license, states must ensure that the individual never has had a loan originator license revoked; has not been convicted of enumerated felonies within specified timeframes; demonstrated financial responsibility, character, and fitness; completed 20 hours of pre-licensing education; and passed state specific testing requirements. Under Regulation Z, which implements the Truth in Lending Act, employers must perform substantially the same screening of certain loan originators before permitting them to originate loans. Employers must also ensure certain training for those loan originators. The interpretive rule clarifies that the employer is not required to conduct the screening and ensure the training of loan originators with temporary authority. The state will perform the screening and training as part of its review of the individual's application for a state loan originator license.

3.1.3 Agencies Announce Dollar Thresholds in Regulation Z and M for Exempt Consumer Credit and Leasing Transactions

On October 31, 2019, the Bureau and Federal Reserve Board announced the dollar thresholds in Regulation Z (Truth in Lending) and Regulation M (Consumer Leasing) that will apply for determining exempt consumer credit and lease transactions in 2020. These thresholds are set pursuant to the Dodd-Frank Wall Street Reform and Consumer Protection Act (Dodd-Frank Act) amendments to the Truth in Lending Act and the Consumer Leasing Act that require adjusting these thresholds annually based on the annual percentage increase in the Consumer Price Index for Urban Wage Earners and Clerical Workers (CPI-W). If there is no annual percentage increase in the CPI-W, the Federal Reserve Board and the Bureau will not adjust this exemption threshold from the prior year. However, in years following a year in which the exemption threshold was not adjusted, the threshold is calculated by applying the annual percentage change in CPI-W to the dollar amount that would have resulted, after rounding, if the decreases and any subsequent increases in the CPI-W had been taken into account. Transactions at or below the thresholds are subject to the protections of the regulations.

Based on the annual percentage increase in the CPI-W as of June 1, 2019, the protections of the Truth in Lending Act and the Consumer Leasing Act generally will apply to consumer credit transactions and consumer leases of $58,300 or less in 2020. However, private education loan and loans secured by real property (such as mortgages) are subject to the Truth in Lending Act regardless of the amount of the loan.

Although the Dodd-Frank Act generally transferred rulemaking authority under the Truth in Lending Act and the Consumer Leasing Act to the Bureau, the Federal Reserve Board retains authority to issue rules for certain motor vehicle dealers. Therefore, the agencies issued the notice jointly.

3.1.4 Agencies Announce Threshold for Smaller Loan Exemption From Appraisal Requirements for Higher-Priced Mortgage Loans

On October 31, 2019, the Bureau, the Federal Reserve Board, and the Office of the Comptroller of the Currency announced that the threshold for exempting loans from special appraisal requirements for higher-priced mortgage loans during 2020 will increase from $26,700 to $27,200.

The threshold amount went into effect on January 1, 2020, and is based on the annual percentage increase in the CPI-W as of June 1, 2019.

The Dodd-Frank Act amended the Truth in Lending Act to add special appraisal requirements for higher-priced mortgage loans, including a requirement that creditors obtain a written appraisal based on a physical visit to the home's interior before making a higher-priced mortgage loan. The rules implementing these requirements contain an exemption for loans of $25,000 or less and also provide that the exemption threshold will be adjusted annually to reflect increases in the CPI-W. If there is no annual percentage increase in the CPI-W, the agencies will not adjust this exemption threshold from the prior year. However, in years following a year in which the exemption threshold was not adjusted, the threshold is calculated by applying the annual percentage change in CPI-W to the dollar amount that would have resulted, after rounding, if the decreases and any subsequent increases in the CPI-W had been taken into account.

3.1.5 CFPB Issues Final HMDA Rule To Provide Relief to Smaller Institutions

On October 10, 2019, the Bureau issued a rule which finalizes certain aspects of its May 2019 Notice of Proposed Rulemaking under the Home Mortgage Disclosure Act (HMDA). It extends for two years the current temporary threshold for collecting and reporting data about open-end lines of credit under HMDA. The rule also clarifies partial exemptions from certain HMDA requirements which Congress added in EGRRCPA.

For open-end lines of credit, the rule extends for another two years, until January 1, 2022, the current temporary coverage threshold of 500 open-end lines of credit. For data collection years 2020 and 2021, financial institutions that originated fewer than 500 open-end lines of credit in either of the two preceding calendar years will not need to collect and report data with respect to open-end lines of credit.

For the partial exemptions under the EGRRCPA, the rule incorporates into Regulation C the clarifications from the Bureau's August 2018 interpretive and procedural rule. This final rule further effectuates the burden relief for smaller lenders provided by the EGRRCPA by addressing certain issues relating to the partial exemptions that the August 2018 rule did not address.

This rule finalizes the above aspects of the May 2019 Notice of Proposed Rulemaking, which also proposed raising the permanent coverage thresholds for closed-end mortgage loans and open-end lines of credit. On July 31, 2019, the Bureau reopened the comment period until October 15, 2019 for aspects of the May 2019 Notice of Proposed Rulemaking related to raising the permanent coverage thresholds. The Bureau intends to issue a separate final rule in 2020 addressing these thresholds.

4. Remedial Actions

4.1 Public Enforcement Actions

Maxitransfers Corporation

On August 27, 2019, the Bureau announced a settlement with Maxitransfers Corporation (Maxi), which provides remittance transfer services that allow consumers to send money overseas electronically. This was the Bureau's first action alleging violations of the “Remittance Transfer Rule” of the Electronic Fund Transfer Act (EFTA). From October 2013 until May 2017, Maxi sent approximately 14.5 million remittance transfers for U.S. consumers. The Bureau found that Maxi failed to provide certain consumer protection disclosures and did not maintain all of the policies and procedures required under the Remittance Transfer Rule. Maxi also violated the CFPA by stating to consumers that it was not responsible for errors made by its third-party payment agents when in fact under the Remittance Transfer Rule, a provider is liable for any violation by an agent when such agent acts for the provider. The consent order required Maxi to pay a civil money penalty of $500,000 and prohibited Maxi from stating that it is not responsible for the acts of its agents. The consent order also required Maxi to take steps to improve its compliance management to prevent future violations of the CFPA, EFTA, and the Remittance Transfer Rule.

5. Conclusion

The Bureau will continue to publish Supervisory Highlights to aid Bureau-supervised entities in their efforts to comply with Federal consumer financial law. The report shares information regarding general supervisory and examination findings (without identifying specific institutions, except in the case of public enforcement actions), communicates operational changes to the program, and provides a convenient and easily accessible resource for information on the Bureau's guidance documents.

Dated: February 10, 2020.
Kathleen L. Kraninger,
Director, Bureau of Consumer Financial Protection.

[FR Doc. 2020-03301 Filed 2-19-20; 8:45 am]

BILLING CODE 4810-AM-P